DEPARTMENT OF ENERGY

Federal Energy Regulatory Commission

Notice of Meeting

October 4, 2001.

The following notice of meeting is published pursuant to section 3(A) of the Government in the Sunshine Act (Pub. L. No. 94-409), 5 U.S.C. 552B:

AGENCY HOLDING MEETING: Federal Energy Regulatory Commission.

DATE AND TIME: October 11, 2001, 10:00 a.m.

PLACE: Room 2C, 888 First Street, N.E., Washington, D.C. 20426.

STATUS: Open.

MATTERS TO BE CONSIDERED: Agenda.

* Note: ITEMS listed on the Agenda may be deleted without further notice.

CONTACT PERSON FOR MORE INFORMATION: David P. Boergers, Secretary, Telephone, (202) 208-0400. For a recording listing items stricken from or added to the meeting, call (202) 208-1627.

This Is a List of Matters To Be Considered by the Commission. It Does Not Include a Listing of All Papers Relevant to the Items on the Agenda; However, All Public Documents May Be Examined in the Reference and Information Center.

776th—Meeting October 11, 2001, Regular Meeting, 10:00 a.m.

Markets, Tariffs and Rates—Gas

G-1.

Docket# GX01-1, 000, Discussion of Gas Pipeline Operational Flow Orders

G-2.

Docket# RP96-312, 057, Tennessee Gas Pipeline Company

Other#s GT01-34, 000, Tennessee Gas Pipeline Company

G-3.

Docket# PR01-15, 000, Green Canyon Pipe Line Company, L.P.

G-4.

Docket# PR01-10, 000, Bay Gas Storage Company, Ltd.

G-5.

Docket# RP00-479, 000, Trailblazer Pipeline Company

Other#s RP00-624, 000, Trailblazer Pipeline Company

G-6.

Docket# RP00-343, 000, Kinder Morgan Interstate Gas Transmission, LLC

Other#s RP00-343, 001, Kinder Morgan Interstate Gas Transmission, LLC

RP00-343, 003, Kinder Morgan Interstate Gas Transmission, LLC

RP00-629, 000, Kinder Morgan Interstate Gas Transmission, LLC

G-7.

Docket# RP01-445, 000, Trunkline LNG Company

Other#s RP01-445, 001, Trunkline LNG Company

G-8.

Docket# RP01-258, 000, Transcontinental Gas Pipe Line Corporation

Other#s RP01-258, 001, Transcontinental Gas Pipe Line Corporation

G-9.

Docket# RP01-387, 000, Texas Eastern Transmission, L.P.

G-10.

Docket# RP01-397, 000, Great Lakes Gas Transmission Limited Partnership

G-11.

Docket# RM01-9, 001, Report of Natural Gas Sales to the California Market

G-12.

Docket# RP01-458, 001, Tennessee Gas Pipeline Company

G-13.

Docket# RP01-477, 002, TransColorado Gas Transmission Company

Other#s RP01-477, 001, TransColorado Gas Transmission Company

G-14.

Docket# IS01-444, 002, Conoco Pipe Line Company

Other#s IS01-445, 002, Conoco Pipe Line Company

G-15.

Docket# RP01-382, 004, Northern Natural Gas Company

Other#s RP01-382, 005, Northern Natural Gas Company

RP01-382, 003, Northern Natural Gas Company

G-16

Docket# MG01-21, 001, National Fuel Gas Supply Corporation

G-17.

Docket# RP95-197, 037, Transcontinental Gas Pipe Line Corporation

Other#s RP97-71, 014, Transcontinental Gas Pipe Line Corporation

G-18.

Docket# RP00-395, 001, Panhandle Eastern Pipe Line Company

Other#s RP96-348, 000, Panhandle Eastern Pipe Line Company

RP00-395, 000, Panhandle Eastern Pipe Line Company

RP00-613, 000, Panhandle Eastern Pipe Line Company

G-19.

Docket# OR96-2 et al., 000, ARCO Products Company, et al.

G-20.

Docket# OR01-8, 000, ARCO, a subsidiary of BP America, Inc. v. Calnev Pipe Line, L.L.C.

G-21.

Docket# RM96-1, 019, Standard for Business Practices of Interstate Natural Gas Pipelines

Other#s RM98-10, 008, Regulation of Short-Term Natural Gas Transportation Services

RM98-12, 008, Regulation of Interstate Natural Gas Transportation Services

G-22.

Docket# GX01-2, 000, Discussion of Efficient and Effective Collection of Data

Administrative Agenda

A-1.

Reserved

Miscellaneous Agenda

M-1.

Reserved

Markets, Tariffs and Rates—Electric

E-1.

Docket# EX01-5, 000, Discussion of Generation Interconnection

E-2.

Docket# EL01-118, 000, Investigation of Terms and Conditions of Public Utility Market-Based Rate Authorizations

E-3.

Omitted

E-4.

Omitted

E-5.

Docket# ER01-1136, 002, Ameren Services Company

Other#s ER01-1136, 001, Ameren Services Company

ER01-1136, 000, Ameren Services Company

E-6.

Docket# ER01-2130, 000, Central Maine Power Company

Other#s ER01-2130, 001, Central Maine Power Company

E-7.

Docket# ER01-2584, 000, Northeast Utilities Service Company

E-8.

Omitted

E-9.

Docket# ER98-1438, 000, Midwest Independent Transmission System Operator, Inc.

Other#s EC98-24, 000, The Cincinnati Gas & Electric Company, Commonwealth Edison Company, Commonwealth Edison Company of Indiana, Illinois Power Company, PSI Energy, Inc., Wisconsin Electric Power Company, Union Electric Company, Central Illinois Public Service Company, Louisville Gas & Electric Company, Louisville Gas & Electric Company and Kentucky Utilities Company

ER98-1438, 006, Midwest Independent Transmission System Operator, Inc.

ER98-1438, 007, Midwest Independent Transmission System Operator, Inc.

ER01-479, 000, Midwest Independent Transmission System Operator, Inc.

ER01-479, 001, Midwest Independent Transmission System Operator, Inc.

E-10.

Docket# EC01-127, 000, Holyoke Water Power Company and Holyoke Power and Electric Company

Other#s ER01-2620, 000, Holyoke Water Power Company and Holyoke Power and Electric Company

ER01-2611, 000, Holyoke Water Power Company and Holyoke Power and Electric Company

E-11.

Docket# EC01-115, 000, E.ON AG and Powergen plc, LG&E Energy Corporation, Louisville Gas and Electric Company and Kentucky Utilities Company

E-12.

Docket# ER01-2189, 002, Mid-Continent Area Power Pool

E-13.

Docket# EL01-47, 006, Removing Obstacles to Increased Electric Generation and Natural Gas Supply in the Western United States

E-14.

Docket# ES01-40, 001, Golden Spread Electric Cooperative, Inc.

E-15.

Docket# ER01-1807, 002, Carolina Power & Light Company and Florida Power Corporation

Other#s ER01-2020, 001, Carolina Power & Light Company and Florida Power Corporation

E-16.

Docket# EL01-45, 004, Consolidated Edison Company of New York, Inc.

Other#s ER01-1385, 002, Consolidated Edison Company of New York, Inc.

E-17.

Docket# NJ01-5, 001, Southwest Transmission Cooperative, Inc.

E-18.

Docket# EL01-99, 000, Bangor Hydro-Electric Company

E-19.

Docket# EL00-89, 000, Southern California Edison Company

E-20.

Docket# EL99-65, 000, Sithe/Independence Power Partners v. Niagara Mohawk Power Corporation

Other#s EL99-65, 002, Sithe/Independence Power Partners v. Niagara Mohawk Power Corporation

EL99-65, 001, Sithe/Independence Power Partners v. Niagara Mohawk Power Corporation

EL95-38, 002, Sithe/Independence Power Partners v. Niagara Mohawk Power Corporation

E-21.

Omitted

E-22.

Omitted

E-23.

Omitted

E-24.

Docket# ER01-2903, 001, Tenaska Gateway Partners, Ltd.

Other#s ER00-2998, 001, Southern Company Services, Inc.

ER00-2999, 001, Southern Company Services, Inc.

ER00-3000, 001, Southern Company Services, Inc.

ER00-3001, 001, Southern Company Services, Inc.

Energy Projects—Hydro

H-1.

Docket# P-2188, 054, PP&L Montana, LLC

H-2.

Docket# P-710, 013, Wisconsin Power and Light Company and Wolf River Hydro Limited Partnership

H-3.

Docket# P-137, 027, Pacific Gas and Electric Company

Other#s P-137, 002, Pacific Gas and Electric Company

H-4.

Omitted

H-5.

Docket# P-2216, 046, New York Power Authority

Energy Projects—Certificates

C-1.

Docket# CP01-80, 000, East Tennessee Natural Gas Company

C-2.

Docket# CP01-358, 000, NUI Corporation/NUI Utilities, Inc. and C&T Enterprises, Inc/Valley Energy, Inc.

C-3.

Docket# CP01-76, 000, Cove Point LNG Limited Partnership

Other#s CP01-77, 000, Cove Point LNG Limited Partnership

CP01-156, 000, Cove Point LNG Limited Partnership

RP01-217, 000, Cove Point LNG Limited Partnership

C-4.

Docket# CP01-416, 000, Sierra Production Company

C-5.

Docket# CP93-253, 004, El Paso Natural Gas Company

C-6.

Docket# CP95-202, 001, Venice Gathering Company and Venice Energy Services

Other#s CP97-533, 001, Chevron U.S.A. Inc., Venice Gathering Company, Venice Energy Services Company and Venice Gathering System, L.L.C.

CP97-533, 002, Chevron U.S.A. Inc., Venice Gathering Company, Venice Energy Services Company and Venice Gathering System, L.L.C.

CP97-533, 003, Chevron U.S.A. Inc., Venice Gathering Company, Venice Energy Services Company and Venice Gathering System, L.L.C.

CP97-534, 001, Chevron U.S.A. Inc., Venice Gathering Company, Venice Energy Services Company and Venice Gathering System, L.L.C.

CP97-535, 001, Chevron U.S.A. Inc., Venice Gathering Company, Venice Energy Services Company and Venice Gathering System, L.L.C.

CP97-754, 001, Samedan Oil Corporation v. Venice Gathering System, L.L.C.

C-7.

Docket# CP96-711, 002, Discovery Producer Services LLC

Other#s CP96-712, 004, Discovery Gas Transmission LLC

CP96-719, 002 Discovery Gas Transmission LLC

C-8.

Docket# CP00-233, 005, Southern Natural Gas Company

C-9.

Docket# RM99-5, 004, Regulations Under the Outer Continental Shelf Lands Act Governing the Movement of Natural Gas and Facilities on the Outer Continental Shelf

David P. Boergers,
Secretary.

[FR Doc. 01-25481 Filed 10-5-01; 11:34 am]

BILLING CODE 6717-01-M